DEPARTMENT OF THE INTERIOR

Bureau of Land Management

[A2407-014-004-065516; #O2509-014-004-125222; NVN-097801]

Direct Sale of Public Lands in Lyon County, NV

AGENCY: Bureau of Land Management, Interior.

ACTION: Notice of realty action.

SUMMARY: The Bureau of Land Management (BLM), Sierra Front Field Office, proposes a non-competitive (direct) sale of 2,062.42 acres of public lands to Atlantic Richfield Company (ARC) at no less than fair market value (FMV). The direct sale includes the underlying mineral estate. The BLM administers these public lands, which are located within and adjacent to the Anaconda Copper Mine Site (ACMS). The BLM will conduct the sale under applicable provisions of the Federal Land Policy and Management Act of 1976, as amended (FLPMA) and BLM land sale regulations. The FMV is $760,000 as appraised under the Uniform Standards of Professional Appraisal Practice (USPAP) for the sale parcels. The FMV presented in the appraisal is less than current remediation expenditures and the future remediation cost forecast. The conclusion is the subject has no market value based on the most reliable information provided.

DATES: Submit written comments regarding this direct sale until April 9, 2026.

ADDRESSES: Mail written comments to the BLM Carson City District Office, District Manager, 5665 Morgan Mill Rd., Carson City, NV 89701. Comments may also be emailed to kddow@blm.gov.

FOR FURTHER INFORMATION CONTACT: Mary Feitz, Realty Specialist, BLM Sierra Front Field Office, telephone (775) 885-6194; or email: mfeitz@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The FMV as appraised under the USPAP for the sale parcels is $760,000. The sale parcels were appraised as if unimpaired by prior or existing mining operations, land disturbances, or environmental contamination. Thus, for purposes of the appraisal, the sale parcels were considered to be vacant, undisturbed land.

ARC is responsible for specific remedial actions at the ACMS under the Comprehensive Environmental Response, Compensation and Liability Act (CERCLA) as a potentially responsible party. Conveying these lands would assist ARC to facilitate the remediation of health and safety hazards on the ACMS.

Because the USPAP appraisal did not account for the cost of remediation or contaminated condition of the site when considering the value of the sale parcels, the BLM sought an opinion on valuation considering the current contaminated condition of the property from the Appraisal and Valuation Services Office (AVSO). AVSO did not conduct another appraisal in accordance with USPAP standards, but did opine based on the facts that FMV of $760,000 is less than the current remediation expenditures, concluding that the subject property in its current condition has no market value. Thus, considering the effect of the contamination on the marketability of the parcels, the BLM proposes to convey the property for $0 as a more appropriate FMV.

ARC has also agreed to indemnify the BLM from past, present, and future use or occupancy of or operations on the sale parcels, subject to certain limitations, and to include a covenant not-to-sue the BLM in connection with the investigation and remediation of environmental conditions on or affecting the sale parcels.

Authorizing the proposed action (Serial Number NVN-097801) requires amending the 2001 Carson City Field Office Consolidated Resource Management Plan (CRMP). Of the 2,062.42 acres identified in the proposed action for disposal, 2,002.42 acres were previously designated for disposal in the CRMP and record of decision signed May 9, 2001. The Anaconda Mine Site Conveyance Project Environmental Assessment and Resource Management Plan Amendment (Yerington Anaconda RMP Amendment/EA) (DOI-BLM-NV-C020-2025-0010-RMP-EA) analyzed the eligibility of the additional 60 acres for disposal under FLPMA section 203(a)(1). The Yerington Anaconda RMP Amendment/EA Decision Record, when signed, would amend the CRMP to designate the additional 60 acres as suitable for disposal by sale from Federal ownership under FLPMA section 203(a)(1), which states that a tract of public land may be sold if the Secretary of the Interior determines that: “(1) such tract because of its location or other characteristics is difficult and uneconomic to manage as part of the public lands.”

The Yerington Anaconda RMP Amendment/EA can be found online at: https://eplanning.blm.gov/eplanning-ui/project/2035766/510.

The disposal lands are comprised of five parcels that are west of the City of Yerington and east of the community of Weed Heights, at the eastern foot of the Singatse Range. The lands that the BLM is considering for disposal to ARC, under applicable provisions of sections 203 and 209 of FLPMA and the BLM land sale regulations at 43 CFR part 2710, are within and around the ACMS in Mason Valley, Lyon County, Nevada.

The public lands proposed for direct sale are legally described as:

Mount Diablo Meridian, Nevada

T. 13 N., R. 25 E.,

Sec. 4, SW¼SW¼ and SE¼SE¼;

Sec. 5, lots 1 thru 3, lots 5 thru 7, and SW¼NE¼;

Sec. 7, E½NE¼NE¼, E½SE¼NE¼, and E½NE¼SE¼;

Sec. 8, lots 1, 3, and 4, NE¼SW¼SW¼, N½NW¼SW¼SW¼, SE¼NW¼SW¼SW¼, NE¼SW¼SW¼SW¼, and SE¼SW¼SW¼;

Sec. 9, W½NE¼NE¼, W½NE¼, SE¼NE¼, N½NW¼, SE¼NW¼, NE¼SW¼, S½SW¼, and SE¼;

Sec. 16, lots 3 thru 10, NW¼NE¼, and N½NW¼;

Sec. 17, lot 7, lots 13 thru 15, N½SW¼NE¼, NE¼NW¼, NE¼NW¼NW¼, NE¼SE¼NW¼NW¼, N½SE¼NW¼, and W½SW¼SE¼NW¼;

Sec. 20, lots 2 thru 5, E½NE¼NW¼NE¼, SE¼NW¼NE¼, E½SW¼NE¼, N½NE¼NW¼SE¼, SE¼NE¼NW¼SE¼, and NE¼SE¼NW¼SE¼;

Sec. 21, lots 1 thru 6, SW¼NW¼, SW¼, N½SW¼SE¼, SW¼SW¼SE¼, and W½SE¼SW¼SE¼;

Sec. 28, W½NE¼NW¼NE¼, W½NW¼NE¼, W½NE¼SE¼NW¼NE¼, W½SE¼NW¼NE¼, W½SE¼SE¼NW¼NE¼, NE¼NW¼, NE¼NW¼NW¼, N½NW¼NW¼NW¼, N½SE¼NW¼NW¼, N½NE¼SE¼NW¼, and N½NW¼SE¼NW¼.

The areas described aggregate 2062.42 acres, according to the official plats of the surveys of said lands on file with the BLM.

The direct sale of the land to ARC would allow ARC to retain significant control over the historic ACMS. The site is an abandoned open pit copper mine and processing facility, located in Lyon County's Mason Valley, in western Nevada. The majority of copper mining, milling, and processing at the ACMS occurred between 1953 and 1978, and secondary milling and processing of ores occurred between 1978 and 2000. Anaconda merged with an ARC subsidiary in 1977, which merged into Atlantic Richfield Company in 1981.

ARC is the only private entity to which the BLM can convey the lands, because ARC is identified as a potentially responsible party and is already under an obligation (pursuant to the Interim Administrative Order on Consent between the Nevada Division of Environmental Protection (NDEP) and ARC, dated February 5, 2018 (NDEP, 2018)). A direct sale would allow ARC to perform the CERCLA remedial action selected in 2017 by NDEP, the BLM, and the Environmental Protection Agency, for the Anaconda Copper Mine Site.

Upon publication of this notice in the Federal Register, the described lands will be segregated from all forms of appropriation under the public land laws, including the mining laws, except for the sale provisions of FLPMA. Upon publication of this notice and until completion of this sale, the BLM will no longer accept land use applications affecting the parcels identified for sale. The parcels may be subject to land use applications received prior to publication of this notice if processing the application would have no adverse effect on the marketability of title, or the FMV of the parcels. Subject to limitations prescribed by law and regulation, prior to patent issuance, a holder of any right-of-way within the parcels may be given the opportunity to amend the right-of-way for conversion to a new term, including perpetuity, if applicable, or to an easement.

The segregative effect of this notice terminates upon issuance of a patent or other document of conveyance to such lands, or publication in the Federal Register of a termination of the segregation, whichever occurs first. The segregation period may not exceed 2 years unless extended by the Nevada BLM State Director, in accordance with 43 CFR 2711.1-2(d), prior to the termination date.

The BLM will also publish this notice of realty action once a week for 3 consecutive weeks in the local newspaper, Mason Valley News.

The public land would not be offered for sale to ARC prior to 60 days from the date of publication of this notice in the Federal Register. The patent, if issued to ARC, would be subject to the following terms, conditions, and reservations:

(1) A right-of-way is reserved for ditches and canals constructed by authority of the United States under the Act of August 30, 1890;

(2) Subject to valid existing rights;

(3) The parcels are subject to reservations for roads, public utilities, and flood control purposes, both existing and proposed, in accordance with the local governing entities' transportation plans;

(4) An appropriate indemnification clause protecting the United States from claims arising out of the patentee's use, occupancy, or occupations on the patented lands;

(5) A covenant not to sue or assert claims or causes of action against the United States Department of Interior Bureau of Land Management, in connection with the investigation and remediation of environmental conditions on or affecting the patented lands, and

(6) Any other reservations, terms, and conditions that the Authorized Officer deems appropriate.

ARC will have until 4:30 p.m., Pacific time (PT), 30 days from the date of receiving the sale offer to accept the offer and a completed certificate of eligibility form. Failure to meet conditions established for this sale will void the sale and any funds received will be forfeited.

In accordance with 43 CFR 2711.3-1(f), the BLM may accept or reject any or all offers to purchase or withdraw any parcel of land or interest therein from sale within 30 days, if the BLM authorized officer determines consummation of the sale would be inconsistent with any law, or for other reasons as may be provided by applicable law or regulations. No contractual or other rights against the United States may accrue until the BLM officially accepts the offer to purchase and the full price is paid.

To determine the FMV through appraisal, certain extraordinary assumptions and hypothetical conditions may have been made concerning the attributes and limitations of the lands and potential effects of local regulations and policies on potential future land uses. Through publication of this notice, the BLM advises that these assumptions may not be endorsed or approved by units of local government.

No warranty of any kind, express or implied, is given by the United States as to the title, whether or to what extent the land may be developed, its physical condition, future uses, or any other circumstance or condition. The conveyance of a parcel will not be on a contingency basis.

It is ARC's responsibility to be aware of all applicable Federal, State, and local government laws, regulations, and policies that may affect the subject land, including any required dedication of lands for public uses. It is also ARC's responsibility to be aware of existing or prospective uses of nearby properties. When conveyed out of Federal ownership, the land will be subject to any applicable laws, regulations, and policies of the applicable local government for proposed future uses. It is the responsibility of ARC to be aware through due diligence of those laws, regulations, and policies, and to seek any required local approvals for future uses. ARC should make itself aware of any Federal or State law or regulation that may impact the future use of the property. Any land lacking access from a public road or highway will be conveyed as such and acquiring future access will be the responsibility of ARC.

Information concerning the sale, encumbrances of record, reservations, procedures, and conditions, CERCLA, and other environmental documents that may appear in the BLM public files for the sale parcels, is available for review by appointment only, during business hours, from 8 a.m. to 4:30 p.m. PT, Monday through Friday, at the BLM Carson City District Office, except during Federal holidays.

Before including your address, phone number, email address, or other personally identifiable information in your comment, you should be aware that your entire comment—including your personally identifiable information—may be made publicly available at any time. While you can ask us in your comment to withhold your personally identifiable information from public review, we cannot guarantee that we will be able to do so.

Any comments regarding the proposed sale will be reviewed by the BLM Nevada State Director, who may sustain, vacate, or modify this realty action in response to such comments. In the absence of any comments, and following completion of appropriate land use planning, this realty action will become the final determination of the Department of the Interior.

(Authority: 43 CFR 2711.1-2(a) and (c))

Jon K. Raby,
Nevada State Director, Bureau of Land Management.

[FR Doc. 2026-03464 Filed 2-20-26; 8:45 am]

BILLING CODE 4331-21-P